DEPARTMENT OF COMMERCE

Bureau of Industry and Security

Materials Technical Advisory Committee; Notice of Partially Closed Meeting; Postponed

The Materials Technical Advisory Committee scheduled for on August 13, 2009, 10 a.m., Herbert C. Hoover Building, Room 3884, 14th Street between Constitution & Pennsylvania Avenues, NW., Washington, DC has been postponed. The new meeting date is forthcoming.

For more information, call Yvette Springer at (202) 482-2813.

Dated: August 10, 2009.
Yvette Springer,
Committee Liaison Officer.

[FR Doc. E9-19436 Filed 8-12-09; 8:45 am]

BILLING CODE P